DEPARTMENT OF HEALTH AND HUMAN SERVICES

Centers for Disease Control and Prevention

Disease, Disability, and Injury Prevention and Control Special Emphasis Panel (SEP): Initial Review

The meeting announced below concerns the World Trade Center Health Program Outreach and Education Plan RFA-OH12-1201, initial review.

In accordance with Section 10(a)(2) of the Federal Advisory Committee Act (Pub. L. 92-463), the Centers for Disease Control and Prevention (CDC) announces the aforementioned meeting:

Time and Date: 8:00 a.m.-5:00 p.m., August 28, 2012 (Closed).

Place: Embassy Suites—Old Town Alexandria, 1900 Diagonal Road, Alexandria, Virginia 22314, Telephone: (703) 684-5900.

Status: The meeting will be closed to the public in accordance with provisions set forth in Section 552b(c)(4) and (6), Title 5 U.S.C., and the Determination of the Director, Management Analysis and Services Office, CDC, pursuant to Public Law 92-463.

Matters to be Discussed: The meeting will include the initial review, discussion, and evaluation of applications received in response to “World Trade Center Health Program Outreach and Education Plan RFA-OH12-1201.”

Contact Person for More Information: Nina Turner, Ph.D., Scientific Review Officer, National Institute for Occupational Safety and Health, CDC, 1095 Willowdale Road, Mailstop G800, Morgantown, West Virginia 26505-2845, Telephone: (304) 285-5976.

The Director, Management Analysis and Services Office, has been delegated the authority to sign Federal Register notices pertaining to announcements of meetings and other committee management activities, for both the Centers for Disease Control and Prevention and the Agency for Toxic Substances and Disease Registry.

Dated: July 18, 2012.
Elaine L. Baker,
Director, Management Analysis and Services Office, Centers for Disease Control and Prevention.

[FR Doc. 2012-18427 Filed 7-27-12; 8:45 am]

BILLING CODE 4163-18-P